COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: January 4, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On August 29, October 3, and October 10, 2003, the Committee for Purchase From People Who Are Blind or Severely Disabled published notice (68 FR 51962, 57403, and 58651) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Fluorescent Highlighter

M.R. 1776

Product/NSN: Permanent Marker

M.R. 1780

NPA: Dallas Lighthouse for the Blind, Inc., Dallas, Texas

Contract Activity: Defense Commissary Agency, Fort Lee, Virginia

Product/NSN: Polyethylene Waste Disposable Asbestos Bag

8105-LL-S04-7842

8105-LL-S04-7843

8105-LL-S05-0018

NPA: Open Door Center, Valley City, North Dakota

Contract Activity: Fleet and Industrial Supply Center, Bremerton, Washington

Product/NSN: Safety-Walk, Tapes & Treads

7220-00-NIB-0022, 710 Black Coarse Tape

7220-00-NIB-0031, 710 Black Coarse Tape

7220-00-NIB-0032, 610 Black General Purpose

7220-00-NIB-0046, 630 Yellow General Purpose

7220-00-NIB-0053, 510 Black Conformable

7220-00-NIB-0054, 510 Black Conformable

7220-00-NIB-0061, 530 Yellow Conformable

7220-00-NIB-0065, 310 Black Medium Resilient

7220-00-NIB-0075, 370 Gray Medium Resilient

7220-00-NIB-0136, 710 Black Coarse Tape

7220-00-NIB-0137, 610 Black General Purpose

7220-00-NIB-0138, 620 Clear General Purpose

7220-00-NIB-0139, 630 Yellow General Purpose

7220-00-NIB-0140, 660 Brown General Purpose

7220-00-NIB-0141, 510 Black Conformable

7220-00-NIB-0142, 520 Yellow Conformable

7220-00-NIB-0143, 310 Black Medium Resilient

7220-00-NIB-0144, 370 Gray Medium Resilient

NPA: Louisiana Association for the Blind, Shreveport, Louisiana

Contract Activity: Office Supplies & Paper Products Acquisition Center, New York, New York

Product/NSN: Telephone Cards

M.R. 987 (200 Minutes)

M.R. 988 (300 Minutes)

M.R. 993 (400 Minutes)

NPA: Winston-Salem Industries for the Blind, Winston-Salem, North Carolina

Contract Activity: Defense Commissary Agency (DeCA), Ft. Lee, Virginia

Services

Service Type/Location: Administrative Services, Federal Protective Service, Southern Field Operation Branch, Los Angeles, California

NPA: Pacific Coast Community Services, Truckee, California

Contract Activity: GSA/PBS, Region 9 PMS, San Francisco, California

Service Type/Location: Custodial Services, U.S. Courthouse (Federal Building), Charlottesville, Virginia

NPA: WorkSource Enterprises, Charlottesville, Virginia

Contract Activity: GSA, Public Buildings Service, Region 3 (3PMT), Philadelphia, Pennsylvania

Service Type/Location: Custodial Services U.S. Mint, West Point, New York

NPA: New Dynamics Corporation, Middletown, New York

Contract Activity: Department of the Treasury, Washington, DC

Deletions

On October 10, 2003, the Committee for Purchase From People Who Are Blind or Severely Disabled published notice (68 F.R. 58651/58652) of proposed deletions to the Procurement List. After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Computer Accessories

7045-01-483-7451

7045-01-483-7844

NPA: Wiscraft Inc.—Wisconsin Enterprises for the Blind, Milwaukee, Wisconsin

Contract Activity: Office Supplies & Paper Products Acquisition Center, New York, New York

Product/NSN: Dropcloth, Heavy Duty

8340-00-NIB-0010

NPA: East Texas Lighthouse for the Blind, Tyler, Texas

Contract Activity: GSA, Southwest Supply Center, Fort Worth, Texas

Product/NSN: Fixture, Lighting Industrial

6210-00-688-4929

NPA: The Chicago Lighthouse for People who are Blind or Visually Impaired, Chicago, Illinois

Contract Activity: GSA, Southwest Supply Center, Fort Worth, Texas

Product/NSN: Pad, Scouring

7920-01-383-7928

NPA: Beacon Lighthouse, Inc., Wichita Falls, Texas

Contract Activity: GSA, Southwest Supply Center, Fort Worth, Texas

Product/NSN: Tape, Electronic Data

7045-01-438-7086

NPA: North Central Sight Services, Inc., Williamsport, Pennsylvania

Contract Activity: Defense Supply Center Philadelphia, Philadelphia, Pennsylvania

Product/NSN: Tape, Electronic Data Processing

7045-01-123-0367

NPA: North Central Sight Services, Inc., Williamsport, Pennsylvania

Contract Activity: Defense Supply Center Columbus, Columbus, Ohio

Product/NSN: Towel, Paper

8540-01-494-0910

NPA: The Lighthouse for the Blind in New Orleans, New Orleans, Louisiana

Contract Activity: Office Supplies & Paper Products Acquisition Center, New York, New York

Sheryl D. Kennerly,
Director, Information Management.

[FR Doc. 03-30289 Filed 12-4-03; 8:45 am]

BILLING CODE 6353-01-P